DEPARTMENT OF JUSTICE

Notice of Lodging of Proposed Consent Decree Under the Safe Drinking Water Act, the Clean Water Act and the Resource Conservation and Recovery Act

On August 28, 2014, the Department of Justice lodged with the United States District Court for the District of Nebraska a proposed Consent Decree in United States v. Omaha Tribe of Nebraska and Omaha Tribal Utility Commission, Civil Action No. 8:14-cv-00255.

This civil action asserts claims for civil penalties and injunctive relief against the Omaha Tribe of Nebraska and the Omaha Tribal Utility Commission (“Defendants”) for alleged violations of the Safe Drinking Water Act, 42 U.S.C. Sec 300i (“SDWA”); the Clean Water Act, 33 U.S.C 1319(a), (b) & (d) (“CWA”); and the Resource Conservation and Recovery Act, 42 U.S.C. 6973(b) (“RCRA”) at Defendants' Macy Public Water System, Macy Public Wastewater Treatment Facility, and Mother Earth Recycling Center (collectively “Utilities”) serving the towns of Macy and Walthill, Nebraska on the Omaha Reservation. The United States seeks injunctive relief and civil penalties intended to address Defendants' failure to comply with a March 2011 Environmental Protection Agency Administrative Order on Consent alleging longstanding violations of the SDWA, CWA, and RCRA at the Defendants' Utilities.

To resolve the United States' claims Defendants will pay a civil penalty of $2,000 and implement a number of corrective measures to build the Defendants' financial, managerial and technical capacity to operate and maintain the Utilities in compliance with statutory and regulatory requirements.

The publication of this notice opens a period for public comment on the Consent Decree. Comments should be addressed to the Assistant Attorney General, Environment and Natural Resources Division, and should refer to United States v. Omaha Tribe of Nebraska and Omaha Tribal Utility Commission, Civil Action No. 8:14-cv-00255, D.J. Ref. No. 90-5-1-1-10496. Commenters may request an opportunity for a public meeting in the affected area, in accordance with Section 7003(d) of the Resource Conservation and Recovery Act, 42 U.S.C. 6973.

All comments must be submitted no later than thirty (30) days after the publication date of this notice. Comments may be submitted either by email or by mail:

To submit comments: | Send them to:
By email | pubcomment-ees.enrd@usdoj.gov.
By mail | Assistant Attorney General U.S. DOJ-ENRD P.O. Box 7611 Washington, DC 20044-7611.

During the public comment period, Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $17.25 (25 cents per page reproduction cost) payable to the United States Treasury.

Maureen M. Katz,
Assistant Section Chief, Environmental Enforcement Section, Environment and Natural Resources Division.

[FR Doc. 2014-21006 Filed 9-3-14; 8:45 am]

BILLING CODE 4410-15-P